DEPARTMENT OF COMMERCE

International Trade Administration

[A-570-868]

Notice of Amended Final Determination of Sales at Less Than Fair Value: Folding Metal Tables and Chairs From the People's Republic of China

AGENCY: Import Administration, International Trade Administration, Department of Commerce.

ACTION: Notice of Amended Final Determination of Sales at Less Than Fair Value.

EFFECTIVE DATE: May 16, 2002.

FOR FURTHER INFORMATION CONTACT: John Drury or Helen Kramer, Enforcement Group III, Office 8, Import Administration, International Trade Administration, U.S. Department of Commerce, 1401 Constitution Avenue, NW., Washington, DC 20230; telephone: (202) 482-0195 or (202) 482-0405, respectively.

SUPPLEMENTARY INFORMATION:

Applicable Statute and Regulations

Unless otherwise indicated, all citations to the Tariff Act of 1930, as amended (“the Act”), are references to the provisions effective January 1, 1995, the effective date of the amendments made to the Act by the Uruguay Round Agreements Act (“URAA”). In addition, unless otherwise indicated, all citations to the Department of Commerce (“Department”) regulations are to 19 CFR part 351 (April 2001).

Background

On April 17, 2002, the Department determined that folding metal tables and chairs from the People's Republic of China (PRC) are being, or are likely to be, sold in the United States at less than fair value (“LTFV”), as provided in section 735(a) of the Act. See Notice of Final Determination of Sales at Less Than Fair Value: Folding Metal Tables and Chairs from the People's Republic of China, 67 FR 20090 (April 24, 2002). The Department released disclosure materials to interested parties on April 19, 2002.

On April 23, 2002, the petitioner informed the Department that some disclosure materials, specifically copies of the pages of the Monthly Statistics of the Foreign Trade of India used by the Department to calculate surrogate values, were not included in the disclosure package. The petitioner requested copies of these pages. The petitioner contacted the Department again on April 25, 2002, and was informed how to obtain copies of the necessary pages. Petitioner obtained these pages on the same day.

On April 24, 2002, respondent Feili Group submitted a letter to the Department alleging ministerial errors. On April 26, 2002, petitioner also submitted a letter to the Department alleging ministerial errors. Neither party submitted any further comments.

Scope of the Investigation

The merchandise subject to this investigation consists of assembled and unassembled folding tables and folding chairs made primarily or exclusively from steel or other metal, as described below:

(1) Assembled and unassembled folding tables made primarily or exclusively from steel or other metal (“folding metal tables”). Folding metal tables include square, round, rectangular, and any other shapes with legs affixed with rivets, welds, or any other type of fastener, and which are made most commonly, but not exclusively, with a hardboard top covered with vinyl or fabric. Folding metal tables have legs that mechanically fold independently of one another, and not as a set. The subject merchandise is commonly, but not exclusively, packed singly, in multiple packs of the same item, or in five piece sets consisting of four chairs and one table. Specifically excluded from the scope of folding metal tables are the following:

Lawn furniture;

Trays commonly referred to as “TV trays;

Side tables;

Child-sized tables;

Portable counter sets consisting of rectangular tables 3″ high and matching stools; and

Banquet tables. A banquet table is a rectangular table with a plastic or laminated wood table top approximately 28″ to 36″ wide by 48″ to 96″ long and with a set of folding legs at each end of the table. One set of legs is composed of two individual legs that are affixed together by one or more cross-braces using welds or fastening hardware. In contrast, folding metal tables have legs that mechanically fold independently of one another, and not as a set.

(2) Assembled and unassembled folding chairs made primarily or exclusively from steel or other metal (“folding metal chairs”). Folding metal chairs include chairs with one or more cross-braces, regardless of shape or size, affixed to the front and/or rear legs with rivets, welds or any other type of fastener. Folding metal chairs include: those that are made solely of steel or other metal; those that have a back pad, a seat pad, or both a back pad and a seat pad; and those that have seats or backs made of plastic or other materials. The subject merchandise is commonly, but not exclusively, packed singly, in multiple packs of the same item, or in five piece sets consisting of four chairs and one table. Specifically excluded from the scope of folding metal chairs are the following:

Folding metal chairs with a wooden back or seat, or both;

Lawn furniture;

Stools;

Chairs with arms; and

Child-sized chairs.

The subject merchandise is currently classifiable under subheadings 9401710010, 9401710030, 9401790045, 9401790050, 9403200010 and 9403200030 of the HTSUS. Although the HTSUS subheadings are provided for convenience and U.S. Customs Service purposes, the Department's written description of the merchandise is dispositive.

Amended Final Determination

In accordance with section 735(e) of the Act, we have determined that ministerial errors in the calculations of Feili Group's surrogate values for packing cartons, scrap steel, plastic links, and plastic bags were made in our final margin calculations. For plastic links and packing cartons, we made errors in addition and subtraction when using the Monthly Statistics of the Foreign Trade of India to calculate the surrogate values. Concerning scrap steel, we did not apply the proper SAS calculations for our stated methodology. As to plastic bags, we did not correct the placement of the decimal point for the reported factor of production. For a detailed discussion of the above-cited ministerial error allegations and the Department's analysis, see Memorandum to Richard O. Weible, “Allegation of Ministerial Error; Final Determination in the Antidumping Duty Investigation of Folding Metal Tables and Chairs from the People's Republic of China” dated May 10, 2002, which is on file in room B-099 of the main Commerce building.

Therefore, in accordance with 19 CFR 351.224(e), we are amending the final determination of the antidumping duty investigation of folding metal tables and chairs from the PRC to correct these ministerial errors. The revised final weighted-average dumping margins are as follows:

Exporter/manufacturer | Original weighted-average margin percentage | Revised weighted-average margin average percentage
Feili Furniture Development Co., Ltd. and Feili (Fujian) Co., Ltd | 23.48 | 13.72
Dongguan Shichang Metals Factory Co. Ltd | 23.48 | 13.72
New-Tec Integration Co., Ltd | 23.48 | 13.72
Shin Crest Pte. Ltd | 00.00 | 00.00
All Others | 70.71 | 70.71

Continuation of Suspension of Liquidation

In accordance with section 735(c)(1)(B) of the Act, we are directing the U.S. Customs Service (“Customs”) to continue to suspend liquidation of all imports of folding metal tables and chairs from the PRC, except for subject merchandise produced by Shin Crest (which has a weighted-average margin of zero). Customs shall require a cash deposit or the posting of a bond equal to the weighted-average amount by which the normal value exceeds the export price, as indicated in the chart above. These suspension of liquidation instructions will remain in effect until further notice.

ITC Notification

In accordance with section 735(d) of the Tariff Act, we have notified the International Trade Commission of our amended final determination.

This determination is issued and published in accordance with sections 735(d) and 777(i)(1) of the Act.

Dated: May 10, 2002.
Bernard T. Carreau,
Acting Assistant Secretary for Import Administration.

[FR Doc. 02-12296 Filed 5-16-02; 8:45 am]

BILLING CODE 3510-DS-P